DEPARTMENT OF AGRICULTURE

Forest Service

Long Damon Plantation Release and Site Preparation Project, Modoc County, CA

AGENCY: Forest Service, USDA.

ACTION: Notice of intent to prepare an environmental impact statement.

SUMMARY: The Forest Service, Modoc National Forest, Devil's Garden and Big Valley Ranger Districts will prepare an environmental impact statement (EIS) to disclose the environmental consequences of the proposed Long Damon Plantation Release and Site Preparation Project, and alternatives to the proposal. The decision to be made, is whether to select this proposed action or one of the alternatives to this proposal. The Long Damon Plantation Release and Site Preparation Project area is located approximately 18 miles northwest of Canby, CA, in Modoc County, CA, within the 23,400 acre Damon Wildfire that burned in 1996.

The Forest Service proposes to treat competing vegetation on up to 4,700 acres that have been, or will be, planted with native conifer seedlings. The proposal protects a large public investment in post-fire reforestation, accelerates development of the desired resource conditions described for this area in the Modoc National Forest Land and Resource Management Plan (MLRMP), as amended by the Sierra Nevada Forest Plan Amendment Record of Decision—Jan 2001 (SNROD), and implements Standards and Guidelines described by MLRMP as amended by SNROD. The areas where actions are proposed are identified as General Forest, Inventoried Roadless and Wildland Urban Interface areas in the SNROD. Vegetation treatments proposed in plantations within these land allocations are designed to accelerate development of old forest characteristics, increase the distribution and connectivity of forests across the landscape, increase stand heterogeneity, and reduce the risk of wildfire loss. Projects within Inventoried Roadless and Wildland Urban Interface land allocations are designed to move areas towards conditions that allow for efficient and safe suppression of wildland fire. The proposed action is also consistent with the objectives of the Forest and Rangeland Renewable Resources Planning Act of 1974 as amended by the National Forest Management Act of 1976: It is the policy of the Congress that all forested lands in the National Forests shall be maintained in appropriate forest cover with species of trees, degrees of stocking, rate of growth and conditions of stand, designed to secure maximum benefits of multiple use sustained yield management in accordance with land management plans.

The Forest Service proposes to aerially apply Pronone 10G, a granular formulation of the herbicide hexazinone to control competing vegetation in post-fire plantations where successful seedling establishment is threatened. Aerial application by helicopter is the preferred method of treatment due to cost efficiency, speed and accuracy of application, and low worker exposure. The objective of this treatment is to reduce competing vegetation levels below twenty percent total ground cover for a period of two to three years after planting. Reforestation success is more readily achieved when competing vegetation is managed to produce a favorable environment for survival and growth of conifer seedlings. Control of the environment in these plantations is critical to ensure survival and growth of native conifer seedlings in sufficient quantity and quality to meet the long-term objective of increased distribution and connectivity of large trees across the landscape. Without adequate stocking of vigorously growing, well-distributed seedlings, these plantations will lack the resiliency over time to meet these long-term objectives.

Important preliminary considerations identified to date are: (1) Worker safety/ public safety, including Native American plant uses and collections; (2) Direct and indirect effects to wildlife and (3) Effects to a Forest Service listed sensitive plant, Iliamna bakeri.

In addition to the proposed action and the no action alternative, other possible alternatives include no treatment in specific plantations or portions of plantations with high densities if Iliamna bakeri where these sub-populations could serve as a seed source for the surrounding area. The alternatives to this proposal will include a no-action alternative.

DATES: Comments identifying issues concerning the effects of the proposal should be postmarked on or before April 29, 2002 to receive timely consideration in the draft EIS.

ADDRESSES: Submit written comments to: Anne Mileck, Team Leader, USDA Forest Service, 800 West 12th St. Alturas, CA 96101. Send electronic comments to: amileck@fs.fed.us. Please reference the Long Damon Plantation Release and Site Preparation Project on the subject line. Also, include your name and mailing address with your comments so documents pertaining to this project may be mailed to you. Comments received, including names and addresses of those who comment, will become part of the public record and may be subject to public disclosure. Any person may request the Agency to withhold a submission from the public record by showing how the Freedom of Information Act permits such confidentiality.

FOR FURTHER INFORMATION CONTACT: Anne Mileck, Team Leader, at 530-233-8803 or Bernie Weisgerber, District Ranger, Doublehead Ranger District, at 530-667-2246.

SUPPLEMENTARY INFORMATION: The information presented in this notice is included to help the reviewer determine if they are interested in or potentially affected by the proposed land management activities. The information presented in this notice is summarized. Those who wish to provide comments, or are otherwise interested in the project, are encouraged to obtain additional information from the contact identified in the FOR FURTHER INFORMATION CONTACT section.

Public Involvement

Additional information concerning the proposal can be accessed on the Internet at http://www.r5.fs.fed.us/modoc/management/nepa/nepa.html.

Process Procedures and Timelines

The Long Damon Plantation Release and Site Preparation Project has been listed in the Modoc National Forest's Calendar of Proposed Environmental Actions since January 1999. Public scoping for an Environmental Assessment began in the fall of 1999. In January 2000 the Forest sent a scoping letter describing the proposed action to 39 government agencies, public individuals and groups, including private landowners adjacent to the proposed treatment areas and to others who had been identified as potentially interested in the proposed vegetation management program. Consultation with local Native American tribal representatives started in January of 2000 and has been ongoing. The Forest has conducted three field trips to the project area for the public and local Native American tribal representatives.

All comments received from the earlier scoping period will be considered in the EIS, unless respondent submits new comments indicating changes to prior submissions.

The draft EIS is expected to be filed with the Environmental Protection Agency and available for public review by May 2002. The comment period on the draft EIS will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519 553 (1978)). Also, environmental objection that could be raised at the draft environmental impact statement state but that are not raised until after completion of the final environmental impact statement stage may be waived or dismissed by the courts (City of Angoon v. Hodel, 803 F. 2nd 1016, 1022 (9th Cir. 1986) and Wisconsin Heritages, Inc. v. Harris, 490 F. Supp. 1334, 1338 (E.D. Wis. 1980)).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at 40 CFR 1503.3 in addressing these points. After the comment period ends on the draft EIS, the comments received will be analyzed and considered by the Forest Service in preparing the final EIS.

The final EIS is scheduled to be completed in September, 2002. In the final EIS, the Forest Service is required to respond to the comments received (40 CFR 1503.4). The responsible official will consider the comments, responses, environmental consequences discussed in the environmental impact statement, and applicable laws, regulations and policies in making a decision regarding this proposal. The responsible official will document the decision and reasons for the decision in a Record of Decision.

That decision will be subject to appeal under 36 CFR part 215.

The responsible official is Dan Chisholm, Forest Supervisor, Modoc National Forest, 800 W. 12th St., Alturas, CA 96101.

Dated: March 18, 2002.
Dan Chisholm,
Forest Supervisor.

[FR Doc. 02-7183 Filed 3-28-02; 8:45 am]

BILLING CODE 3410-11-P